ENVIRONMENTAL PROTECTION AGENCY

[FRL-6954-1]

Preparation of Third U.S. Climate Action Report

AGENCY: Environmental Protection Agency.

ACTION: Notice; Request for public comments.

SUMMARY: In June 1992, the United States signed the United Nations Framework Convention on Climate Change (UNFCCC). Pursuant to the national communication reporting requirements under Articles 4.2 and 12 of the Convention and to guidelines later adopted by the UNFCCC Conference of the Parties (COP), the United States submitted the first U.S. Climate Action Report (USCAR) to the UNFCCC Secretariat in 1994 and the second in 1997. The U.S. Government is currently preparing the third national communication, which is due to the UNFCCC secretariat no later than November 30, 2001. The purpose of this announcement is to notify interested members of the public of this process and to solicit contributions and input on the issues covered in the national communication before the draft text is released for public review (in summer of 2001).

DATES: Written comments should be received on or before noon, April 18, 2001. However, comments received after that date will still be welcomed and will be considered during preparation of the report.

ADDRESSES: Comments should be submitted to: Mr. Reid P. Harvey, U.S. Environmental Protection Agency, Office of Atmospheric Programs (Mail Stop 6204N), 1200 Pennsylvania Avenue, NW., Washington, DC 20460. Comments may also be e-mailed to harvey.reid@epa.gov or faxed to 202-565-6673. Overnight or courier deliveries should be sent to the office location at 633 3rd Street, NW., Washington, DC, 20001.

FOR FURTHER INFORMATION CONTACT: Mr. Reid P. Harvey, Office of Atmospheric Programs, U.S. Environmental Protection Agency at (202) 564-9429.

SUPPLEMENTARY INFORMATION:

Background

In accordance with the UNFCCC's reporting requirements as specified in Articles 4.2 and 12, and following reporting guidelines developed (and adopted by the UNFCCC COP at its first session), the United States prepared the U.S. Climate Action Report (CAR) and submitted it to the UNFCCC Secretariat in October 1994.

The CAR provided a description of the U.S. program designed to reduce emissions to 1990 levels by the year 2000. The initial CAR incorporated much of the information contained in the first Climate Change Action Plan announced by President Clinton and Vice President Gore on October 19, 1993.

At the Second COP, the Parties requested developed country Parties to the Convention to submit to the UNFCCC Secretariat, in accordance with Articles 12.1 and 12.2 of the Convention, a second national communication by April 15, 1997. Parties that submitted first reports in 1996 were to provide an update by the 1997 deadline and Parties with economies in transition were to provide their second communication by April 15, 1998. Developing country Parties have different guidelines and due dates for their national communications. The United States submitted its second national communication to the UNFCCC Secretariat in July 1997.

At the Fifth COP, the Parties updated the guidelines for preparation of national communications (see FCCC/CP/1999/7). This document is available on the Internet at http://www.unfccc.de/resource/cop5.html. In addition, the Parties requested that third national communications be submitted no later than November 30, 2001.

The Third United States Climate Action Report (CAR)

The third CAR will review key elements contained in the Climate Change Action Plan, including: an update on key baseline assumptions; a review and assessment of activities to date under the actions listed in the plan; and an update of the list of actions reflecting changes initiated by responsible agencies since the plan was first proposed in 1993.

In keeping with international guidelines, the third CAR will provide an inventory of U.S. greenhouse gas emissions and sinks, estimate effects of mitigation measures and policies on future emissions levels, and describe U.S. involvement in international programs, including associated contributions and funding efforts.

In addition, the text will include a discussion of U.S. national circumstances that affect U.S. vulnerability and responses to climate change. Information on the U.S. Global Change Research Program, Global Climate Observing Systems (GCOS), and adaptation programs will also presented.

Table of Contents of the Third US CAR

I. Executive summary

II. National circumstances

III. Greenhouse gas inventory

IV. Policies and measures

V. Projections and effects of policies and measures

VI. Vulnerability assessment, climate change impacts, and adaptation measures

VII. Financial resources and transfer of technology

VIII. Research and systematic observation

IX. Education, training, and public awareness

Public Input Process

This Federal Register notice solicits contributions and comments on all aspects to be covered in the third US CAR and in particular, on issues related to non-federal, state, regional, local, and private sector actions to address climate change. The document will be modeled closely on the format of the second CAR. Comments may be submitted to the contact listed above.

In addition, the U.S. will release the draft text of the Third CAR for review and comment in the summer of 2001. Comments on that document will be due within 30 days of release. Because of the tight time constraints on completing and printing the final text, a longer review period will not be possible.

We invite input now on all aspects of the document currently under development, including its content, format, and graphics. Comments received in response to this Federal Register notice will be considered in the preparation of the draft of the third national communication.

You may view the 1997 U.S. Climate Action Report on the Internet at: http://www.state.gov/www/global/oes/97climate_report/index.html.

Dated: March 8, 2001.
Robert Brenner,
Acting Assistant Administrator, Office of Air and Radiation.

[FR Doc. 01-6704 Filed 3-16-01; 8:45 am]

BILLING CODE 6560-50-P